DEPARTMENT OF COMMERCE

International Trade Administration

[A-570-010]

Certain Crystalline Silicon Photovoltaic Products From the People's Republic of China: Notice of Court Decision Not in Harmony With the Results of the Antidumping Duty Administrative Review; Notice of Amended Final Results

AGENCY: Enforcement and Compliance, International Trade Administration, Department of Commerce.

SUMMARY: On April 14, 2025, the U.S. Court of International Trade (CIT) issued its final judgment in Trina Solar Co., Ltd., et al. v. United States, Slip Op. 25-40, Court no. 23-213, sustaining the U.S. Department of Commerce (Commerce)'s remand results pertaining to the administrative review of the antidumping duty (AD) order on certain crystalline silicon photovoltaic products from the People's Republic of China (China) covering the period February 1, 2021, through January 31, 2022 (POR). Commerce is notifying the public that the CIT's final judgment is not in harmony with Commerce's final results of the administrative review, and that Commerce is amending the final results with respect to the dumping margin assigned to: (1) Trina Solar (Changzhou) Science & Technology Co., Ltd.; (2) Trina Solar Co., Ltd.; (3) Yancheng Trina Guoneng Photovoltaic Technology Co., Ltd. (a.k.a. Yancheng Trina Solar Guoneng Science & Technology Co., Ltd.); (4) Trina Solar Yiwu Technology Co., Ltd.; (5) Trina Solar (Su Qian) Technology Co., Ltd.; (6) Trina Solar (Yancheng Dafeng) Co., Ltd.; (7) Changzhou Trina Hezhong Photoelectric Co., Ltd. (a.k.a. Changzhou Trina Hezhong PV Co., Ltd.); (8) Changzhou Trina Solar Yabang Energy Co., Ltd.; and (9) Turpan Trina Solar Energy Co., Ltd. (collectively, Trina).

DATES: Applicable April 24, 2025.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On September 8, 2023, Commerce published the Final Results in the 2021-2022 AD administrative review of certain crystalline silicon photovoltaic products from China, in which it calculated a weighted-average dumping margin of 10.50 percent for Trina.¹

¹ See Certain Crystalline Silicon Photovoltaic Products from the People's Republic of China: Final Results of Antidumping Duty Administrative Review and Final Determination of No Shipments; 2021-2022, 88 FR 62049 (September 8, 2023) (Final Results), and accompanying Issues and Decision Memorandum (IDM).

Trina appealed Commerce's Final Results. On August 20, 2024, the CIT remanded the Final Results to Commerce to further explain or reconsider its decision not to adjust the prices of Trina's sales of subject merchandise during the POR by the countervailing duties imposed on certain programs in the 2017 administrative review of the companion countervailing duty order.²

² See Trina Solar Co., Ltd., et al. v. United States, Court No. 23-00213, Slip Op. 24-96 (CIT August 20, 2024) (Remand Order); see also Certain Crystalline Silicon Photovoltaic Products from the People's Republic of China: Preliminary Results of Countervailing Duty Administrative Review, and Rescission of Review in Part; 2017, 84 FR 15585 (April 16, 2019) and accompanying Preliminary Decision Memorandum, unchanged in Certain Crystalline Silicon Photovoltaic Products from the People's Republic of China: Final Results of Countervailing Duty Administrative Review; 2017; 84 FR 56765 (October 23, 2019), and accompanying IDM.

In its final results of redetermination, issued on December 18, 2024, Commerce, under respectful protest, adjusted the prices of Trina's sales of subject merchandise during the POR by the countervailing duties imposed on three of the six subsidy programs at issue.³ On April 14, 2025, the CIT sustained Commerce's final remand redetermination.⁴

³ See Final Results of Redetermination Pursuant to Court Remand, Trina Solar Co., Ltd., et al. v. United States, Court No. 23-00213, Slip Op. 24-96 (CIT August 20, 2024), dated December 18, 2024, available at: https://access.trade.gov/public/FinalRemandRedetermination.aspx.

⁴ See Trina Solar Co., Ltd., et al. v. United States, Court No. 23-213, Slip Op. 25-40 (CIT April 14, 2025).

Timken Notice

In its decision in Timken,⁵ as clarified by Diamond Sawblades,⁶ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's April 14, 2025, judgment constitutes a final decision of the CIT that is not in harmony with Commerce's Final Results. Thus, this notice is published in fulfillment of the publication requirements of Timken.

⁵ See Timken Co. v. United States, 893 F.2d 337 (Fed. Cir. 1990) (Timken).

⁶ See Diamond Sawblades Manufacturers Coalition v. United States, 626 F.3d 1374 (Fed. Cir. 2010) (Diamond Sawblades).

Amended Final Results

Because there is now a final court judgment, Commerce is amending its Final Results and with respect to Trina as follows:

Exporter | Weighted-average dumping margin (percent)
Trina Solar (Changzhou) Science & Technology Co., Ltd./Trina Solar Co., Ltd./Yancheng Trina Guoneng Photovoltaic Technology Co., Ltd. (a.k.a. Yancheng Trina Solar Guoneng Science & Technology Co., Ltd.)/Trina Solar Yiwu Technology Co., Ltd./Trina Solar (Su Qian) Technology Co., Ltd./Trina Solar (Yancheng Dafeng) Co., Ltd./Changzhou Trina Hezhong Photoelectric Co., Ltd. (a.k.a. Changzhou Trina Hezhong PV Co., Ltd.)/Changzhou Trina Solar Yabang Energy Co., Ltd./Turpan Trina Solar Energy Co., Ltd | 9.09

Cash Deposit Requirements

Because Trina does not have a superseding cash deposit rate, i.e., there have been no final results published in a subsequent administrative review covering Trina, Commerce will issue revised cash deposit instructions for Trina to U.S. Customs and Border Protection (CBP). Commerce will revise Trina's cash deposit rate from 10.50 percent to 9.09 percent ad valorem.

Liquidation of Suspended Entries

At this time, Commerce remains enjoined by CIT order from liquidating entries that: were exported by Trina and were entered, or withdrawn from warehouse, for consumption during the period February 1, 2021, through January 31, 2022. These entries will remain enjoined pursuant to the terms of the injunction during the pendency of any appeals process.

In the event the CIT's ruling is not appealed, or, if appealed, upheld by a final and conclusive court decision, Commerce intends to instruct CBP to assess antidumping duties on unliquidated entries of subject merchandise exported by Trina in accordance with 19 CFR 351.212(b). We will instruct CBP to assess antidumping duties on all appropriate entries covered by this review when the importer-specific ad valorem assessment rate is not zero or de minimis. Where an import-specific ad valorem assessment rate is zero or de minimis,⁷ we will instruct CBP to liquidate the appropriate entries without regard to antidumping duties.

⁷ See 19 CFR 351.106(c)(2).

Notification to Interested Parties

This notice is issued and published in accordance with sections 516A(c) and (e) and 777(i)(1) of the Act.

Dated: May 5, 2025.
Abdelali Elouaradia,
Deputy Assistant Secretary for Enforcement and Compliance.

[FR Doc. 2025-08162 Filed 5-8-25; 8:45 am]

BILLING CODE 3510-DS-P